DEPARTMENT OF COMMERCE

National Oceanic and Atmospheric Administration

RIN 0648-XA452

Endangered Species; File No. 15614

AGENCY: National Marine Fisheries Service (NMFS), National Oceanic and Atmospheric Administration (NOAA), Commerce.

ACTION: Issuance of permit.

SUMMARY: Notice is hereby given that Tom Savoy, Connecticut Department of Environmental Protection, Marine Fisheries, PO Box 719, Old Lyme, CT 06731, has been issued a permit to take shortnose sturgeon for purposes of scientific research.

ADDRESSES: The permit and related documents are available for review upon written request or by appointment in the following offices:

• Permits, Conservation and Education Division, Office of Protected Resources, NMFS, 1315 East-West Highway, Room 13705, Silver Spring, MD 20910; phone (301) 713-2289; fax (301) 713-0376; and

• Northeast Region, NMFS, 55 Great Republic Drive, Gloucester, MA 01930; phone (978) 281-9328; fax (978) 281-9394.

FOR FURTHER INFORMATION CONTACT: Colette Cairns or Malcolm Mohead, (301) 713-2289.

SUPPLEMENTARY INFORMATION: On December 17, 2010, notice was published in the Federal Register (75 FR 78974) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

The applicant is authorized to conduct a five-year scientific study determining biological and life history information on shortnose sturgeon in Connecticut waters, including the Connecticut, Thames, and Housatonic Rivers. The permit authorizes non-lethal sampling with anchored gill nets and trawls, capturing up to 500 fish annually. Each fish will be captured, weighed, measured, passive integrated transponder tagged, and sampled for genetic tissue analysis. Of those 500 fish, 225 will also have a fin ray clipped for ageing analysis, and 100 will undergo gastric lavage. A sub-set of 25 fish will be acoustic tagged internally, released, and tracked, to determine seasonal movement and habitat selection.

Issuance of this permit, as required by the ESA, was based on a finding that such permit: (1) Was applied for in good faith, (2) will not operate to the disadvantage of such endangered or threatened species, and (3) is consistent with the purposes and policies set forth in section 2 of the ESA.

Dated: May 23, 2011.
P. Michael Payne,
Chief, Permits, Conservation and Education Division, Office of Protected Resources, National Marine Fisheries Service.

[FR Doc. 2011-13547 Filed 5-31-11; 8:45 am]

BILLING CODE 3510-22-P